Executive Order 14288 of April 28, 2025

Strengthening and Unleashing America's Law Enforcement To Pursue Criminals and Protect Innocent Citizens

By the authority vested in me as President by the Constitution and the laws of the United States of America, it is hereby ordered:

Section 1. Purpose and Policy. Safe communities rely on the backbone and heroism of a tough and well-equipped police force. My Administration is steadfastly committed to empowering State and local law enforcement to firmly police dangerous criminal behavior and protect innocent citizens.

When local leaders demonize law enforcement and impose legal and political handcuffs that make aggressively enforcing the law impossible, crime thrives and innocent citizens and small business owners suffer. My Administration will therefore: establish best practices at the State and local level for cities to unleash high-impact local police forces; protect and defend law enforcement officers wrongly accused and abused by State or local officials; and surge resources to officers in need. My Administration will work to ensure that law enforcement officers across America focus on ending crime, not pursuing harmful, illegal race- and sex-based “equity” policies.

The result will be a law-abiding society in which tenacious law enforcement officers protect the innocent, violations of law are not tolerated, and American communities are safely enjoyed by all their citizens again.

Sec. 2. Legal Defense of Law Enforcement Officers. The Attorney General shall take all appropriate action to create a mechanism to provide legal resources and indemnification to law enforcement officers who unjustly incur expenses and liabilities for actions taken during the performance of their official duties to enforce the law. This mechanism shall include the use of private-sector pro bono assistance for such law enforcement officers.

Sec. 3. Empowering State and Local Law Enforcement. (a) The Attorney General and other appropriate heads of executive departments and agencies (agencies) shall take all appropriate action to maximize the use of Federal resources to:

(i) provide new best practices to State and local law enforcement to aggressively police communities against all crimes;

(ii) expand access and improve the quality of training available to State and local law enforcement;

(iii) increase pay and benefits for law enforcement officers;

(iv) strengthen and expand legal protections for law enforcement officers;

(v) seek enhanced sentences for crimes against law enforcement officers;

(vi) promote investment in the security and capacity of prisons; and

(vii) increase the investment in and collection, distribution, and uniformity of crime data across jurisdictions.

(b) Within 60 days of the date of this order, the Attorney General shall review all ongoing Federal consent decrees, out-of-court agreements, and post-judgment orders to which a State or local law enforcement agency is a party and modify, rescind, or move to conclude such measures that unduly impede the performance of law enforcement functions.

Sec. 4. Using National Security Assets for Law and Order. (a) Within 90 days of the date of this order, the Attorney General and the Secretary of Defense, in consultation with the Secretary of Homeland Security and the heads of agencies as appropriate, shall increase the provision of excess military and national security assets in local jurisdictions to assist State and local law enforcement.

(b) Within 90 days of the date of this order, the Secretary of Defense, in coordination with the Attorney General, shall determine how military and national security assets, training, non-lethal capabilities, and personnel can most effectively be utilized to prevent crime.

Sec. 5. Holding State and Local Officials Accountable. The Attorney General shall pursue all necessary legal remedies and enforcement measures to enforce the rights of Americans impacted by crime and shall prioritize prosecution of any applicable violations of Federal criminal law with respect to State and local jurisdictions whose officials:

(a) willfully and unlawfully direct the obstruction of criminal law, including by directly and unlawfully prohibiting law enforcement officers from carrying out duties necessary for public safety and law enforcement; or

(b) unlawfully engage in discrimination or civil-rights violations under the guise of “diversity, equity, and inclusion” initiatives that restrict law enforcement activity or endanger citizens.

Sec. 6. Use of Homeland Security Task Forces. The Attorney General and the Secretary of Homeland Security shall utilize the Homeland Security Task Forces (HSTFs) formed in accordance with Executive Order 14159 of January 20, 2025 (Protecting the American People Against Invasion) to coordinate and advance the objectives of this order.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The Department of Justice shall provide funding for this order's publication in the Federal Register.

THE WHITE HOUSE,

April 28, 2025.

[FR Doc. 2025-07790

Filed 5-1-25; 8:45 am]

Billing code 4410-CW-P